DEPARTMENT OF HEALTH AND HUMAN SERVICES

National Institutes of Health

Center for Scientific Review; Amended Notice of Meeting

Notice is hereby given of a change in the meeting of the Psychosocial Development, Risk and Prevention Study Section, October 3, 2013, 8:00 a.m. to October 4, 2013, 6:00 p.m., Bethesda North Marriott Hotel & Conference Center, 5701 Marinelli Road, Bethesda, MD 20852 which was published in the Federal Register on September 9, 2013, 78 FR 174 Pgs. 55086-55087.

The meeting will be held at the Hotel Helix, 1430 Rhode Island Ave. NW., Washington, DC 20005. The meeting will start on December 5, 2013 at 8:00 a.m. and end on December 6, 2013 at 5:00 p.m. The meeting is closed to the public.

Dated: October 25, 2013.
Anna Snouffer,
Deputy Director, Office of Federal Advisory Committee Policy.

[FR Doc. 2013-25775 Filed 10-29-13; 8:45 am]

BILLING CODE 4140-01-P